DEPARTMENT OF THE INTERIOR

Bureau of Land Management

[WY-957-08-1420-BJ]

Notice of Filing of Plats of Survey, Wyoming

AGENCY: Bureau of Land Management, Interior.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The supplemental plat showing new lottings in sections 8, 17 and 18, Township 18 North, Range 79 West, Sixth Principal Meridian, Wyoming, was accepted December 6, 2007.

The plat and field notes representing the dependent resurvey of portions of the subdivisional lines, 1909 meanders of the Green River and an island located in sections 14 and 15, and the subdivision of certain sections, and the metes-and-bounds survey of Lot 13 in section 14, Township 23 North, Range 111 West, of the Sixth Principal Meridian, Wyoming, Group No. 723, was accepted December 6, 2007.

The plat and field notes representing the dependent resurvey of a portion of the east boundary, the west and north boundaries and the subdivisional lines, Township 50 North, Range 78 West, of the Sixth Principal Meridian, Wyoming, Group No. 727, was accepted December 6, 2007.

The plat and field notes representing the dependent resurvey of a portion of the subdivisional lines, and the subdivision of section 21, and the metes and bounds survey of Lot 1, section 21, Township 18 North, Range 80 West, Sixth Principal Meridian, Wyoming, Group No. 779, was accepted December 6, 2007.

The plat representing the entire record of the establishment of reference monuments for the meander corner of sections 33 and 34, on the left bank of the Gros Ventre River, Township 42 North, Range 116 West, Sixth Principal Meridian, Wyoming, Group No. 607, was accepted January 30, 2008.

The plat representing the entire record of the establishment of reference monuments for certain corners of Parcel A, Section 28, Township 26 North, Range 105 West, Sixth Principal Meridian, Wyoming, Group No. 674, was accepted January 30, 2008.

The plat representing the entire record of the dependent resurvey of a portion of the subdivisional lines designed to restore the corners in their true original locations according to the best available evidence, Township 20 North, Range 85 West, Sixth Principal Meridian, Wyoming, Group No. 766, was accepted January 30, 2008.

The plat and field notes representing the corrective dependent resurvey of a portion of the subdivisional lines, and the dependent resurvey of a portion of the Twelfth Standard Parallel North (north boundary), through Range 80 West, a portion of the south boundary and a portion of the subdivisional lines, Township 48 North, Range 80 West, Sixth Principal Meridian, Wyoming, Group No. 762, was accepted February 26, 2008.

The plat and field notes representing the dependent resurvey of a portion of the north boundary, and the subdivisional lines, Township 21 North, Range 94 West, Sixth Principal Meridian, Wyoming, Group No. 763, was accepted February 26, 2008.

The plat representing the entire record of the corrective dependent resurvey of a portion of the Ninth Guide Meridian West, Township 51 North, between Ranges 72 and 73 West, Sixth Principal Meridian, Wyoming, designed to restore the corners to their original locations according to the best available evidence, Group No. 765, was accepted March 17, 2008.

Copies of the preceding described plats and field notes are available to the public at a cost of $1.10 per page.

Dated: March 18, 2008.
John P. Lee,
Chief Cadastral Surveyor, Division of Support Services.

[FR Doc. E8-6035 Filed 3-24-08; 8:45 am]

BILLING CODE 4310-22-P